DEPARTMENT OF LABOR

Occupational Safety and Health Administration

[Docket No. OSHA-2007-0039]

Intertek Testing Services NA, Inc.: Application for Expansion of Recognition

AGENCY: Occupational Safety and Health Administration (OSHA), Labor.

ACTION: Notice.

SUMMARY: In this notice, OSHA announces the application of Intertek Testing Services NA, Inc., for expansion of the scope of recognition as a Nationally Recognized Testing Laboratory (NRTL) and presents the agency's preliminary finding to grant the application.

DATES: Submit comments, information, and documents in response to this notice, or requests for an extension of time to make a submission, on or before August 30, 2023.

ADDRESSES: Comments may be submitted as follows:

Electronically: You may submit comments, including attachments, electronically at: http://www.regulations.gov, the Federal eRulemaking Portal. Follow the online instructions for submitting comments.

OSHA will place comments, including personal information, in the public docket, which will be available online. Therefore, OSHA cautions interested parties about submitting personal information such as Social Security numbers and birthdates.

Instructions: All submissions must include the agency's name and the docket number for this rulemaking (Docket No. OSHA-2007-0039). All comments, including any personal information you provide, are placed in the public docket without change and may be made available online at https://www.regulations.gov. Therefore, OSHA cautions commenters about submitting information they do not want made available to the public, or submitting materials that contain personal information (either about themselves or others), such as Social Security numbers and birthdates.

Docket: To read or download comments or other material in the docket, go to http://www.regulations.gov. Documents in the docket (including this Federal Register notice) are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Extension of comment period: Submit requests for an extension of the comment period on or before August 30, 2023 to the Office of Technical Programs and Coordination Activities, Directorate of Technical Support and Emergency Management, Occupational Safety and Health Administration, U.S. Department of Labor, 200 Constitution Avenue NW, Room N-3653, Washington, DC 20210.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Notice of the Application for Expansion

OSHA is providing notice that Intertek Testing Services NA, Inc. (ITSNA), is applying for an expansion of current recognition as a NRTL. ITSNA requests the addition of 23 test sites to its NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition, as well as for an expansion or renewal of recognition, following requirements in Appendix A to 29 CFR 1910.7. This appendix requires that the agency publish two notices in the Federal Register in processing an application. In the first notice, OSHA announces the application and provides the preliminary finding. In the second notice, the agency provides the final decision on the application. These notices set forth the NRTL's scope of recognition or modifications of that scope. OSHA maintains an informational web page for each NRTL, including ITSNA, which details that NRTL's scope of recognition. These pages are available from the OSHA website at http://www.osha.gov/dts/otpca/nrtl/index.html.

ITSNA currently has 13 facilities (sites) recognized by OSHA for product testing and certification, with the headquarters located at: Intertek Testing Services NA, Inc., 545 East Algonquin Road, Suite F, Arlington Heights, Illinois 60005. A complete list of ITSNA's scope of recognition is available at https://www.osha.gov/nationally-recognized-testing-laboratory-program/itsna.

II. General Background on the Application

ITSNA submitted an application, dated December 18, 2020 (OSHA-2007-0039-0047), requesting the conversion of 23 existing Satellite Notification Acceptance Program (SNAP) sites to recognized sites under the NRTL Policy for Transitioning to Satellite Notification and Acceptance Program Termination (SNAP Transition Policy) published in the Federal Register on November 24, 2020 (85 FR 75042), as amended by a June 22, 2022 Memorandum from James S. Frederick, Deputy Assistant Secretary for Occupational Safety and Health, to Regional Administrators and Executive Staff, titled “Second Revision to the Nationally Recognized Testing Laboratory (NRTL) Policy for Transitioning to Satellite Notification and Acceptance Program (SNAP) Termination.”

Table 1, below, lists the 23 sites that ITSNA's application requested for inclusion in the NRTL's expanded scope of recognition:

Table 1—List of Test Sites To Be Included in ITSNA's NRTL Scope of Recognition
ITSNA site name | Address | Country
Columbus | 1717 Arlingate Lane, Columbus, Ohio 43228, United States | North America.
Detroit | 45000 Helm Street—Suite 150, Plymouth Township, Michigan 48170, United States | North America.
Grand Rapids | 4700 Broadmoor SE—Suite 200, Kentwood, Michigan 49512, United States | North America.
Edmonton | 14920 135 Ave., Edmonton, Alberta T5V 1R9, Canada | North America.
Montreal | 1829 32nd Avenue, Lachine, Quebec H8T 3J1, Canada | North America.
Toronto | 6225 Kenway Drive, Mississauga, Ontario L5T 2L3, Canada | North America.
Mexico City | Poniente 134 No. 660, Col. Industrial Vallejo, Mexico City, Azcapotzalco 02300, Mexico | North America.
Kaufbeuren | Innovapark 20, Kaufbeuren, 87600, Germany | Europe.
Leatherhead | Cleeve Road, Leatherhead, Surrey KT22 7SA, United Kingdom | Europe.
Milton Keynes | Davy Avenue, Knowlhill, Milton Keynes, Buckinghamshire MK5 8NL, United Kingdom | Europe.
Udine | Via Principe di Udine 114, Campoformido, Udine 33030, Italy | Europe.
Guangzhou | Building E, Guangdong Software Science Park, No. 7-2, Caipin Road, Science City—GETDD, Guangzhou, Guangdong 510663, China | Asia.
Hangzhou | 4th Floor, Building 4#, No. 22, 22nd Street, Qiantang District Hangzhou, 310018, China | Asia.
Shanghai Fengxian | Plant 5, No. 6958 Daye Road, Fengxian District, Shanghai, 201405, China | Asia.
Shanghai Qinzhou | No. 86, 1198 Qinzhou Road North, Shanghai, 200233, China | Asia.
Shenzhen | 2F, Building B, No. 308 Wuhe Avenue, Zhangkengjing Community, GuanHu Subdistrict, LongHua District, Shenzhen, Guangdong 518067, China | Asia.
Shunde (Foshan) | Guangzhou Branch Shunde Testing Site, Room 604, Block 5, Tianfulai International Industrial Park (the fifth phase), No. 3 Changfu West Road, Ronggui Town, Shunde District, Foshan City, Guangdong Province, China | Asia.
Mumbai | “F Wing” Tex Centre, Chandivali Farm Road, Andheri (East), Mumbai, Maharashtra—400072, India | Asia.
New Delhi | E-20 & E26 Block B1, Mohan Cooperative Industrial Area, Mathura Road, New Delhi, 110044, India | Asia.
Tokyo | Yasuda Shibaura No. 2 Bldg. 4F, 3-2-12, Kaigan, Minato-ku, Tokyo, Japan 108-0022 | Asia.
Seoul | 3, Gongdan-ro 160beon-gil, Intertek Building, Gunpo-si, Gyeonggi-do 15845, South Korea | Asia.
Bangkok | 1285/5 Prachachuen Road, Wong Sawang, Bangsue, Bangkok 10800, Thailand | Asia.
Taipei | 5F, No. 423, Ruiguang Road, Neihu District, Taipei, 114690, Taiwan | Asia.

OSHA has preliminarily determined that it is appropriate to review this application under the SNAP Transition Policy. ITSNA's application was timely submitted under that policy, and OSHA preliminarily finds that the SNAP sites in ITSNA's application met all other preconditions of eligibility for conversion to recognized sites under the policy (See SNAP Termination Policy, part III 1.a-g, 85 FR at 75047). OSHA also preliminarily decided that it was not necessary to conduct on-site reviews in connection with ITSNA's expansion application, based on historical assessment records and supporting documentation submitted by ITSNA. Moreover, OSHA staff performed assessments of several ITSNA facilities included in the SNAP conversion application from June 2020 to November 2022, and, while assessors found some nonconformances with the requirements of 29 CFR 1910.7, ITSNA addressed these issues sufficiently. OSHA staff has preliminarily determined that OSHA should grant the application and grant recognition to the 23 sites requested in the application.

III. Preliminary Finding on the Application

ITSNA submitted an acceptable application for expansion of its scope of recognition. OSHA's review of the application file and pertinent documentation indicates that ITSNA can meet the requirements prescribed by 29 CFR 1910.7 for expanding its recognition to include the addition of the 23 additional test sites for NRTL testing and certification. This preliminary finding does not constitute an interim or temporary approval of ITSNA's application.

OSHA seeks public comment on this preliminary determination.

IV. Public Participation

OSHA welcomes public comment as to whether ITSNA meets the requirements of 29 CFR 1910.7 for expansion of recognition as a NRTL. Comments should consist of pertinent written documents and exhibits.

Commenters needing more time to comment must submit a request in writing, stating the reasons for the request by the due date for comments. OSHA will limit any extension to 10 days unless the requester justifies a longer time period. OSHA may deny a request for an extension if it is not adequately justified.

To review copies of the exhibit identified in this notice, as well as comments submitted to the docket, contact the Docket Office, Occupational Safety and Health Administration, U.S. Department of Labor. These materials also are generally available online at https://www.regulations.gov under Docket No. OSHA-2007-0039 (for further information, see the “Docket” heading in the section of this notice titled ADDRESSES).

OSHA staff will review all comments to the docket submitted in a timely manner. After addressing the issues raised by these comments, staff will make a recommendation to the Assistant Secretary of Labor for Occupational Safety and Health on whether to grant ITSNA's application for expansion of the scope of recognition. The Assistant Secretary will make the final decision on granting the application. In making this decision, the Assistant Secretary may undertake other proceedings prescribed in Appendix A to 29 CFR 1910.7.

OSHA will publish a public notice of the final decision in the Federal Register.

IV. Authority and Signature

James S. Frederick, Deputy Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393; Sept. 18, 2020), and 29 CFR 1910.7.

Signed at Washington, DC, on August 9, 2023.
James S. Frederick,
Deputy Assistant Secretary of Labor for Occupational Safety and Health.

[FR Doc. 2023-17427 Filed 8-14-23; 8:45 am]

BILLING CODE 4510-26-P